DEPARTMENT OF THE INTERIOR

Fish and Wildlife Service

[FWS-HQ-ES-2018-N112; FXES11130100000C4-189-FF02ENEH00]

Endangered and Threatened Wildlife and Plants; 26 Draft Recovery Plan Amendments for 42 Species Across the United States

AGENCY: Fish and Wildlife Service, Interior.

ACTION: Notice of availability; opening of public comment period.

SUMMARY: We, the U.S. Fish and Wildlife Service (Service), announce the availability of 26 draft recovery plan amendments for 42 endangered and threatened species. We are amending recovery criteria to better assist in determining when an endangered species has recovered to the point that it may be reclassified as threatened, or that the protections afforded by the Endangered Species Act of 1973, as amended (Act), are no longer necessary and the endangered species may be removed from the Act's protections. We request review and comments on these draft recovery plan amendments from local, State, Tribal, and Federal agencies, nongovernmental organizations, and the public.

DATES: In order to be considered, comments on the draft recovery plan amendments must be received on or before April 1, 2019.

ADDRESSES: Reviewing documents: If you wish to review these draft recovery plan amendments, you may obtain copies from the website addresses listed in the table provided in SUPPLEMENTARY INFORMATION. You may also request copies of draft recovery plan amendments by contacting the individuals listed in the table provided in this notice, relevant to each species or recovery plan, or both.

Submitting comments: If you wish to comment, see the table provided in this notice and you may submit your comments by one of the following methods:

1. You may submit written comments and materials to each field office mailing address for the species in which you are interested;

2. You may hand-deliver written comments to each field office, in the table at the identified address, for the species in which you are interested; or

3. You may send comments by email to the identified contact person's email address in the table, for each species. Please include “Amended Recovery Plan Comments” in the subject line.

FOR FURTHER INFORMATION CONTACT: For information on a particular species, contact the appropriate person listed in the table for each species in SUPPLEMENTARY INFORMATION. Individuals who are hearing impaired may call the Federal Relay Service at 800-877-8339 for TTY assistance.

SUPPLEMENTARY INFORMATION:

Background

In this notice, we announce the availability of 26 draft recovery plan amendments, which revise recovery criteria for 42 endangered and threatened species, for public review and comment. These 26 draft recovery plan amendments are a subset of a larger effort under way to revise up to 182 recovery plans covering up to 305 species in order to achieve the following Department of the Interior Agency Priority Performance Goal outlined in the Department's Strategic Plan for Fiscal Years 2018-2022: “By September 30, 2019, 100% of all Fish and Wildlife Service recovery plans will have quantitative criteria for what constitutes a recovered species.” Given the timeline associated with this Agency Priority Performance goal, we are relying on the public comment period to facilitate an efficient communication, coordination, and collaboration process with the wide variety of potential stakeholders we consider essential to the development and implementation of recovery plans. Recovery plans must be designed so that all stakeholders and the public understand the rationale behind the recovery program, whether they were involved in writing the plan or not, and recognize their role in its implementation. We are, therefore, requesting submission of any information that may help achieve (1) the necessary understanding of species' biology, threats and recovery needs; (2) identification of implementation issues and concerns; and (3) facilitation of more effective implementation, associated with these draft amendments that revise recovery criteria for these 42 species.

The Service is required to develop and implement recovery plans “for the conservation and survival” of listed species under section 4(f) of the Act, unless the Service finds that developing a recovery plan would not promote the conservation of the species. The Act also requires inclusion of: (1) “Site-specific management actions as may be necessary to achieve the plan's goal for the conservation and survival of the species”; (2) “Objective, measurable criteria which, when met, would result in a determination . . . that the species be removed from the list”; and (3) “Estimates of the time required and the cost to carry out those measures needed to achieve the plan's goal and to achieve intermediate steps toward that goal.”

The purpose of a recovery plan is to provide a roadmap for a species' recovery, with the goal of improving its status and managing its threats to the point at which protections under the Act are no longer needed. A recovery plan identifies, organizes, and prioritizes recovery actions and is, therefore, an important guide to ensure sound scientific decision-making throughout the recovery process, which can take decades. Recovery plans provide important guidance to the Service, States, other partners, and the general public on methods of minimizing threats to listed species and measurable objectives against which to measure the progress towards recovery; they are guidance and not regulatory documents.

Recovery plans should be consulted frequently, used to initiate recovery activities, and updated as needed. Keeping recovery plans current will ensure that the species benefits through timely, partner-coordinated implementation, based on the best available information. A review of the recovery plan and its implementation, however, may show that the recovery plan is out of date or its usefulness is limited and, therefore, warrants modification. The need for, and extent of, recovery plan modifications will vary considerably among recovery plans, depending on the scope and complexity of the initial plan, the structure of the document, and the involvement of stakeholders.

The need for revision may be triggered when, among other possibilities: (1) New information has been identified, such as population-level threats to the species or previously unknown life-history traits, that necessitates new or revised recovery strategy, actions, or criteria, or revision of all three; (2) the current recovery plan is out of date with regard to the information presented in it or requirements for an adequate recovery plan (a recovery strategy, threats-based recovery criteria, etc.); or (3) the current plan is not achieving its objectives. An amendment, a type of recovery plan revision, is more limited in scope than a full revision of the recovery plan and modifies an existing plan, rather than replacing the entire existing recovery plan. Revisions benefit endangered and threatened species, our partners, and the public by incorporating new information about life history, threats, and/or species' response to management from study findings and focusing on what is really needed for species' recovery.

Recovery criteria serve as objective, measurable guidelines to assist in determining when an endangered species has recovered to the point that it may be downlisted to threatened, or that the protections afforded by the Act are no longer necessary and the species may be delisted. Delisting is the removal of a species from the Federal Lists of Endangered and Threatened Wildlife and Plants. Downlisting is the reclassification of a species from an endangered species to a threatened species. The term “endangered species” means any species (species, subspecies, or distinct population segment) that is in danger of extinction throughout all or a significant portion of its range. The term “threatened species” means any species which is likely to become an endangered species within the foreseeable future throughout all or a significant portion of its range.

Recovery criteria should help indicate when we would anticipate that an analysis of the species' status under section 4(a)(1) would result in a determination that the species is no longer an endangered or threatened species. A decision to revise the status of or remove a species from the Federal Lists of Endangered and Threatened Wildlife and Plants, however, is ultimately based on an analysis of the threats to the species in accordance with sections 4(a)(1) and 4(b) of the Act and made “solely on the basis of the best scientific and commercial data available,” regardless of whether that information differs from the recovery plan. When changing the status of a species, we first propose the action in the Federal Register to seek public comment and peer review, followed by a final decision announced in the Federal Register.

Revision of recovery plans requires public notice and comment under section 4(f)(4) of the Act, including: (1) A Federal Register notice of availability to give opportunity for public review and comment; (2) consideration of all information presented during the public comment period; and (3) approval by the Regional Director. When finalized, these recovery plan amendments will be made publicly available on the internet through our Environmental Conservation Online System (ECOS, https://ecos.fws.gov).

What plans are being made available for public review and comment?

This notice announces our draft recovery plan amendments for the species listed in the table below.

Proposed Recovery Plan Amendments
Common name | Scientific name | Listing status ¹ | Current range | Recovery plan name | Uniform resource locator to proposed recovery plan amendment | Contact person, phone, email | Contact person's U.S. mail address
Pacific Region (Idaho, Oregon, Washington, Hawaii, and the Pacific Islands)
Snails, Oahu tree Silversword, Mauna Loa (=Ka'u) | Achatinella spp. Argyroxiphium kauense | E T | HI HI | Recovery Plan for the Oahu Tree Snails of the Genus Achatinella Recovery Plan for the Ka`u Silversword (Argyroxiphium kauense) | https://ecos.fws.gov/docsrecovery_plan/Achatinella_Draft%20Recovery%20Plan%20Amendment_20180801.pdf https://ecos.fws.gov/docsrecovery_plan/ARGKAU_Draft%20Recovery%20Plan%20Amendment_20180801.pdf | Gregory A. Koob, Assistant Field Supervisor, 808-792-9449, gregory_koob@fws.gov | Pacific Islands Fish and Wildlife Office, 300 Ala Moana Boulevard, Room 3-122, Box 50088, Honolulu, HI 96850.
`Ahinahina | Argyroxiphium sandwicense ssp. sandwicense | E | HI | Recovery Plan for the Mauna Kea Silversword (Argyroxiphium sandwicense ssp.sandwicense) | https://ecos.fws.gov/docsrecovery_plan/ARGSANSAN_Draft%20Recovery%20Plan%20Amendment_20180801.pdf |  |
Koki`o | Kokia drynarioides | E | HI | Recovery Plan for Caesalpinia kavaiensis and Kokia drynarioides | https://ecos.fws.gov/docsrecovery_plan/KOKDRY_Draft%20Recovery%20Plan%20Amendment_20180801.pdf |  |
Uhi uhi | Mezoneuron kavaiense | E | HI |  | https://ecos.fws.gov/docsrecovery_plan/MEZKAV_Draft%20Recovery%20Plan%20Amendment_20180801.pdf
Aupaka | Isodendrion hosakae | E | HI | Recovery Plan for Lipochaeta venosa and Isodendrion hosakae | https://ecos.fws.gov/docsrecovery_plan/ISOHOS_Draft%20Recovery%20Plan%20Amendment_20180801.pdf
No common name | Lipochaeta venosa | E | HI |  | https://ecos.fws.gov/docsrecovery_plan/LIPVEN_Draft%20Recovery%20Plan%20Amendment_20180801.pdf
Hawaiian petrel | Pterodroma sandwichensis | E | HI | Hawaiian Dark-rumped Petrel and Newell's Manx Shearwater Recovery Plan | https://ecos.fws.gov/docsrecovery_plan/HAPE_Draft_Recovery_Plan_Amendment_20180806.pdf
Newell's Townsend's shearwater | Puffinus auricularis newelli | T | HI |  | https://ecos.fws.gov/docsrecovery_plan/NESH_Draft_Recovery_Plan_Amendment_20180806.pdf
Vetch, Hawaiian | Vicia menziesii | E | HI | Vicia menziesii Recovery Plan | https://ecos.fws.gov/docsrecovery_plan/VICMEN_Draft%20Recovery%20Plan%20Amendment_20180801.pdf
Rabbit, Columbia Basin Pygmy | Brachylagus idahoensis | E | WA | Recovery Plan for the Columbia Basin Distinct Population Segment of the Pygmy Rabbit (Brachylagus idahoensis) | https://ecos.fws.gov/docsrecovery_plan/Pygmy%20Rabbit%20Draft%20Recovery%20Plan%20Amendment%2020180731.pdf | Michelle Eames, Fish and Wildlife Biologist, 509-891-6839, michelle_eames@fws.gov | Eastern Washington Field Office, 11103 E. Montgomery Dr., Spokane Valley, WA 99206.
Stickseed, showy | Hackelia venusta | E | WA | Recovery Plan for Hackelia venusta (Showy Stickseed) | https://ecos.fws.gov/docsrecovery_plan/Hackelia_venusta_Draft_Recovery_Plan_Amendment_20180806.pdf | Gregg Kurz, 509-665-3508, gregg_kurz@fws.gov | Central Washington Field Office, 215 Melody Lane, Suite 103, Wenatchee, WA 98801.
Southwest Region (Arizona, New Mexico, Oklahoma, and Texas)
Brady pincushion cactus | Pediocactus bradyi | E | AZ | Brady Pincushion Cactus (Pediocactus bradyi) Recovery Plan | https://ecos.fws.gov/docsrecovery_plan/Draft%20Recovery%20Plan%20Amendment_Brady%20Pincushion_clean.pdf | Field Supervisor, 602-242-0210, AZcriteria@fws.gov | Arizona Ecological Services Field Office, 9828 North 31st Avenue, #C#, Phoenix, Arizona 85051.
Siler pincushion cactus | Pediocactus sileri | T | AZ, UT | Siler Pincushion Cactus (Pediocactus sileri) Recovery Plan | https://ecos.fws.gov/docsrecovery_plan/Draft%20Recovery%20Plan%20Amendment_Siler%20Pincushion_clean.pdf
Sacramento prickly poppy | Argemone pleiacantha ssp. pinnatisecta | E | NM | Sacramento Prickly-Poppy (Argemone pleiacantha ssp. pinnatisecta ) Recovery Plan | https://ecos.fws.gov/docsrecovery_plan/20180816_Draft%20Recovery%20Plan%20Amendment_Sacramento%20prickly%20poppy_clean.pdf | Susan Millsap, Field Office Supervisor, 505-761-4781, susan_millsap@fws.gov | New Mexico Ecological Services Field Office, 2105 Osuna NE, Albuquerque, New Mexico 87113.
Lee pincushion cactus | Coryphantha sneedii var. leei | T | NM | Sneed and Lee Pincushion Cacti (Coryphantha sneedii var. sneedii and Coryphantha sneedii var. leei) Recovery Plan | https://ecos.fws.gov/docsrecovery_plan/Draft%20Recovery%20Plan%20Amendment_SneedLee%20Pincuschion_clean.pdf
Sneed pincushion cactus | Coryphantha sneedii var. sneedii | E | NM, TX |  |  |  | Kuenzler hedgehog cactus | Echinocereus fendleri var. kuenzleri | T | NM | Kuenzler Hedgehog Cactus (Echinocereus fendleri var. kuenzleri) Recovery Plan | https://ecos.fws.gov/docsrecovery_plan/Draft%20Recovery%20Plan%20Amendment_Kuenzler%20Hedgehog%20Cactus_clean.pdf
Zuni fleabane | Erigeron rhizomatus | T | AZ, NM | Zuni Fleabane (Erigeron rhizomatus) Recovery Plan | https://ecos.fws.gov/docsrecovery_plan/Draft%20Recovery%20Plan%20Amendment_Zuni%20Fleabane_clean.pdf
Holy Ghost ipomopsis | Ipomopsis sancti-spiritus | E | NM | Holy Ghost Ipomopsis (Ipomopsis sancti-spiritus) Recovery Plan | https://ecos.fws.gov/docsrecovery_plan/20180816_Draft%20Recovery%20Plan%20Amendment_Holy%20Ghost%20Ipomopsis_clean.pdf
Knowlton's cactus | Pediocactus knowltonii | E | CO, NM | Knowlton's Cactus (Pediocactus knowltonii) Recovery Plan | https://ecos.fws.gov/docsrecovery_plan/Draft%20Recovery%20Plan%20Amendment_Knowltons%20cactus_clean.pdf
Socorro isopod | Thermosphaeroma thermophilus | E | NM | Soccoro Isopod Recovery Plan | https://ecos.fws.gov/docsrecovery_plan/Draft%20Recovery%20Plan%20Amendment_Socorro%20Isopod_clean.pdf
Star cactus | Astrophytum asterias | E | TX | Star Cactus (Astrophytum asterias) Recovery Plan | https://ecos.fws.gov/docsrecovery_plan/Draft%20Recovery%20Plan%20Amendment_Star%20Cactus_clean.pdf | Dawn Gardiner, Assistant Field Supervisor, 361-994-9005x259, dawn_gardiner@fws.gov | Texas Coastal Ecological Services Field Office—Corpus Christi, 4444 Corona Drive, Suite 215, Corpus Christi, Texas 78411.
Zapata bladderpod | Lesquerella thamnophila | E | TX | Zapata Bladderpod (Lesquerella thamnophila) Recovery Plan | https://ecos.fws.gov/docsrecovery_plan/Draft%20Rec%20Plan%20Amendment_Z%20bladderpod_clean.pdf
Coffin Cave mold beetle Tooth Cave spider Tooth Cave ground beetle Tooth Cave pseudoscorpion | Batrisodes texanus Neoleptoneta myopica Rhadine persephone Tartarocreagris texana | E E E E | TX TX TX TX | Endangered Karst Invertebrates (Travis and Williamson Counties, Texas) Recovery Plan | https://ecos.fws.gov/docsrecovery_plan/Draft%20Recovery%20Plan%20Amendment_Travis-Williamson-Karst-Inverts_clean.pdf | Adam Zerrenner, Field Supervisor, 512-490-0057x248, adam_zerrenner@fws.gov | Austin Ecological Services Field Office, 10711 Burnet Road, Suite 200 Austin, Texas 78758.
Kretschmarr Cave mold beetle | Texamaurops reddelli | E | TX
Bee Creek Cave harvestman | Texella reddelli | E | TX
Bone Cave harvestman | Texella reyesi | E | TX
Tobusch fishhook cactus | Sclerocactus brevihamatus ssp. tobuschii | E | TX | Tobusch Fishhook Cactus (Ancistrocactus tobuschii) Recovery Plan | https://ecos.fws.gov/docsrecovery_plan/Draft%20SCLTOB%20Recovery%20Plan%20Amendment_clean.pdf
Pacific Southwest Region (California, Nevada, and the Klamath Basin area of Oregon)
Marsh sandwort Gambel's watercress | Arenaria paludicola Rorippa gambellii | E E | CA, WA CA | Recovery Plan for Marsh Sandwort (Arenaria paludicola) and Gambel's Watercress (Rorippa gambelii) | https://ecos.fws.gov/docsrecovery_plan/Draft%20Recovery%20Plan%20Amendment%20NAGA%20ROGA.pdf | Cat Darst, Assistant Field Supervisor, 805-644-1766, r8ventura-recoverycomments @fws.gov | Ventura Fish and Wildlife Office, 2493 Portola Road, Suite B, Ventura, CA 93003.
Pismo clarkia Chorro Creek bog thistle Indian Knob mountainbalm | Clarkia speciosa ssp. immaculata Cirsium fontinale var. obispoense Eriodictyon altissimum | E E E | CA CA CA | Recovery Plan for the Morro Shoulderband Snail and Four Plants from San Luis Obispo County, California | https://ecos.fws.gov/docsrecovery_plan/Draft%20Recovery%20Plan%20Amendment%20IKMB%20CCBT%20PismoClarkia.pdf
Scotts Valley spineflower | Chorizanthe robusta var. hartwegii | E | CA | Recovery Plan for Insect and Plant Taxa from the Santa Cruz Mountains in California | https://ecos.fws.gov/docsrecovery_plan/Draft%20Recovery%20Plan%20Amendment%20ScottsValleySpineflower.pdf
Coastal dunes milk-vetch Yadon's piperia Hickman's potentilla Monterey clover | Astragalus tener var. titi Piperia yadonii Potentilla hickmanii Trifolium trichocalyx | E E E E | CA CA CA CA | Recovery Plan for Five Plants from Monterey County, California | https://ecos.fws.gov/docsrecovery_plan/Draft%20Recovery%20Plan%20Amendment%20MClover%20CDMVetch%20YAPP%20HickPot.pdf
¹ E = endangered; T = threatened.

How do I ask questions or provide information?

If you wish to provide information for any species listed above, please submit your comments and materials to the appropriate contact in the table above. You may also direct questions to those contacts. Individuals who are hearing impaired or speech impaired may call the Federal Relay Service at 800-877-8339 for TTY assistance.

Request for Public Comments

We request written comments on the draft recovery plan modifications. We will consider all comments we receive by the date specified in DATES prior to final approval of the plans.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act (16 U.S.C. 1533 (f)).

Dated: August 28, 2018.
James W. Kurth,
Deputy Director, U.S. Fish and Wildlife Service, Exercising the Authority of the Director, U.S. Fish and Wildlife Service.

[FR Doc. 2019-00436 Filed 1-30-19; 8:45 am]

BILLING CODE 4333-15-P